DEPARTMENT OF DEFENSE

[DOD-2006-OS-0110]

Office of the Inspector General; Privacy Act of 1974; System of Records

AGENCY: Office of the Inspector General, DoD.

ACTION: Notice to amend systems of records.

SUMMARY: The Office of the Inspector General (OIG) is amending a system of records notice in its existing inventory of record systems subject to the Privacy Act of 1974 (5 U.S.C. 552a) as amended.

DATES: This proposed action will be effective without further notice on July 5, 2006 unless comments are received which result in a contrary determination.

ADDRESSES: Send comments to Chief, FOIA/PA Office, Inspector General, Department of Defense, 400 Army Navy Drive, Room 201, Arlington, VA 22202-4704.

FOR FURTHER INFORMATION CONTACT: Mr. Darryl R. Aaron at (703) 604-9785.

SUPPLEMENTARY INFORMATION: The Office of the Inspector General (OIG) systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: May 26, 2006.
C.R. Choate,
Alternate OSD Federal Register Liaison Officer, Department of Defense.

CIG-15

System name:

Departmental Inquiries Case System (December 29, 1999, 64 FR 73020).

Changes:

* * * * *

System name:

Delete entry and replace with: “Senior Official and Reprisal Investigation Case System”.

System location:

Delete entry and replace with: “Office of the Deputy Inspector General for Investigations, Directorate of Investigations of Senior Officials, Office of the Inspector General, Department of Defense, 400 Army Navy Drive, Arlington, VA 22202-4704.”

Categories of individuals covered in the system:

Delete entry and replace with: “Individuals who provide initial complaints resulting in administrative investigations conducted by Office of the Deputy Inspector General for Investigations (ODIG-INV) related to violations of laws, rules, or regulations or mismanagement, gross waste of funds, abuse of authority, or a danger to the public health and safety; subjects of administrative investigations conducted by the ODIG-INV; or individuals identified as having been adversely affected by matters under investigation by the ODIG-INV.”

* * * * *

Safeguards:

Delete entry and replace with: “Records are maintained in locked rooms accessible only to Office of the Deputy Inspector General for Investigations personnel having official need-to-know and electronic data system is password protected.”

Retention and disposal:

Delete entry and replace with: “Destroy when 10 years old.”

Notification procedure:

Delete entry and replace with: “Individuals seeking to determine whether information about themselves is contained in this system should address written inquiries to the Freedom of Information Act Requester Service Center/Privacy Act Office, 400 Army Navy Drive, Arlington, VA 22202-4704.

Written request should contain the individual's full name (including former names and aliases) date and place of birth, Social Security Number, current home address, telephone number and the request must be signed. Also, requests submitted on behalf of other persons must include their written authorization.”

Record access procedures:

Delete entry and replace with: “Individuals seeking access to information about themselves contained in this system should address written inquiries to the Freedom of Information Act Requester Service Center/Privacy Act Office, 400 Army Navy Drive, Arlington, VA 22202-4704.

Written request should contain the individual's full name (including former names and aliases) date and place of birth, Social Security Number, current home address, telephone number and the request must be signed. Also, requests submitted on behalf of other persons must include their written authorization.”

* * * * *

CIG-15

System name:

Senior Official and Reprisal Investigation Case System.

System location:

Office of the Deputy Inspector General for Investigations, Directorate of Investigations of Senior Officials, Office of the Inspector General, Department of Defense, 400 Army Navy Drive, Arlington, VA 22202-4704.

Categories of individuals covered in the system:

Individuals who provide initial complaints resulting in administrative investigations conducted by Office of the Deputy Inspector General for Investigations (ODIG-INV) related to violations of laws, rules, or regulations or mismanagement, gross waste of funds, abuse of authority, or a danger to the public health and safety; subjects of administrative investigations conducted by the ODIG-INV; or individuals identified as having been adversely affected by matters under investigation by the ODIG-INV.

Categories of records in the system:

Materials relating to allegations received and documentation created as a result of action of the Office of the Inspector General, including reports, records of action taken, and supporting documentation.

Authority for maintenance of the system:

Inspector General Act of 1978 (Pub. L. 95-452), as amended; and DoD Directive 5106.1 (32 CFR part 376).

Purpose(s):

To record complaints, allegations of wrongdoing, and requests for assistance; to document inquiries, research facts and circumstances, sources of information, conclusions and recommendations; to record actions taken and notifications of interested parties and agencies.

Routine uses of records maintained in the system including categories of users, and purposes of such uses:

In addition to those disclosures generally permitted under 5 U.S.C. 552a(b) of the Privacy Act, these records or information contained therein may specifically be disclosed outside the DoD as a routine use pursuant to 5 U.S.C. 552a(b)(3) as follows:

The “Blanket Routine Uses” set forth at the beginning of the OIG's compilation of systems of records notices also apply to this system.

Policies and practices for storing, retrieving, accessing, retaining, and disposing of records in the system:

Storage:

Automated and paper records are stored in conventional media file folders and personal computer.

Retrievability:

Automated and paper records pertaining to administrative investigation cases are indexed through the use of a computerized cross-reference system; they may be retrieved by individual names or case numbers.

Safeguards:

Records are maintained in locked rooms accessible only to Office of the Deputy Inspector General for Investigations personnel having official need-to-know and electronic data system is password protected.

Retention and disposal:

Destroy when 10 years old.

System manager(s) and address:

Office of the Assistant Inspector General for Departmental Inquiries, Office of the Inspector General, Department of Defense, 400 Army Navy Drive, Arlington, VA 22202-2884.

Notification procedure:

Individuals seeking to determine whether information about themselves is contained in this system should address written inquiries to the Freedom of Information Act Requester Service Center/Privacy Act Office, 400 Army Navy Drive, Arlington, VA 22202-4704.

Written request should contain the individual's full name (including former names and aliases) date and place of birth, Social Security Number, current home address, telephone number and the request must be signed. Also, requests submitted on behalf of other persons must include their written authorization.

Records access procedures:

Individuals seeking access to information about themselves contained in this system should address written inquiries to the Freedom of Information Act Requester Service Center/Privacy Act Office, 400 Army Navy Drive, Arlington, VA 22202-4704.

Written request should contain the individual's full name (including former names and aliases) date and place of birth, Social Security Number, current home address, telephone number and the request must be signed. Also, requests submitted on behalf of other persons must include their written authorization.

Contesting record procedures:

The OIG's rules for accessing records and for contesting contents and appealing initial agency determinations are published in 32 CFR part 312 or may be obtained from the system manager.

Record source categories:

Information was obtained from sources, subjects, witnesses, all levels of government, private businesses, and nonprofit organizations.

Exemptions claimed for the system:

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

An exemption rule for this record system has been promulgated in accordance with the requirements of 5 U.S.C. 553I(b) (1), (2), and (3), (c) and (e) and published in 32 CFR part 312. For additional information contact the system manager.

[FR Doc. 06-5085 Filed 6-2-06; 8:45 am]

BILLING CODE 5001-06-M